DEPARTMENT OF THE TREASURY

Internal Revenue Service

26 CFR Part 301

[REG-131028-09]

RIN 1545-BI85

Amendments to the Section 7216 Regulations—Disclosure or Use of Information by Preparers of Returns

AGENCY: Internal Revenue Service (IRS), Treasury.

ACTION: Notice of proposed rulemaking by cross-reference to temporary regulations.

SUMMARY: In the Rules and Regulations section of this issue of the Federal Register, the IRS is issuing temporary regulations that provide updated guidance affecting tax return preparers regarding the use of information related to lists for solicitation of tax return business; the disclosure or use of statistical compilations of data under section 7216 of the Internal Revenue Code (Code) by a tax return preparer in connection with, or in support of, a tax return preparer's tax return preparation business, including identification of additional limited circumstances when a tax return preparer who compiles statistical information may disclose the compilation without taxpayer consent, and the placement of additional restrictions on the content of the compilation that may be disclosed under those circumstances without taxpayer consent; and the disclosure or use of information for the purpose of performing conflict reviews. The text of those temporary regulations also serves as the text of these proposed regulations. This document invites comments from the public on these regulations.

DATES: Written or electronic comments and requests for a public hearing must be received by March 5, 2010.

ADDRESSES: Send submissions to: CC:PA:LPD:PR (REG-131028-09), room 5203, Internal Revenue Service, PO Box 7604, Ben Franklin Station, Washington, DC 20044. Submissions may be hand delivered Monday through Friday between the hours of 8 a.m. and 4 p.m. to CC:PA:LPD:PR (REG-131028-09), Courier's Desk, Internal Revenue Service, 1111 Constitution Avenue, NW., Washington, DC, or sent electronically, via the Federal eRulemaking Portal at http://www.regulations.gov (IRS REG-131028-09).

FOR FURTHER INFORMATION CONTACT: Concerning the proposed regulations, Molly K. Donnelly, (202) 622-4940; concerning the submissions of comments and requests for hearing, Richard Hurst, (202) 622-7180 (not toll-free numbers).

SUPPLEMENTARY INFORMATION:

Background and Explanation of Provisions

This document contains proposed amendments to 26 CFR part 301 under section 7216 to provide modified rules relating to the ability of a tax return preparer to use tax return information, without taxpayer consent, for the purposes of compiling, maintaining, and using lists for solicitation of tax return business under § 301.7216-2(n); disclose and use statistical compilations of data described in § 301.7216-1(b)(3)(i)(B) under § 301.7216-2(o), and disclose and use tax return information for the purpose of performing conflict reviews under § 301.7216-2(p). Temporary regulations in the Procedure and Administration section of this issue of the Federal Register amend 26 CFR part 301. The text of those regulations also serves as the text of these regulations. The preamble to the temporary regulations explains the temporary regulations and these proposed regulations.

Special Analyses

It has been determined that this notice of proposed rulemaking is not a significant regulatory action as defined in Executive Order 12866. Therefore, a regulatory assessment is not required. It has also been determined that section 553(b) of the Administrative Procedure Act (5 U.S.C. chapter 5) does not apply to these regulations, and because the regulation does not impose a collection of information on small entities, the Regulatory Flexibility Act (5 U.S.C. chapter 6) does not apply. Pursuant to section 7805(f) of the Code, this regulation has been submitted to the Chief Counsel for Advocacy of the Small Business Administration for comment on its impact on small business.

Comments and Requests for a Public Hearing

Before these proposed regulations are adopted as final regulations, consideration will be given to any written (a signed original and eight (8) copies) or electronic comments that are submitted timely to the IRS. The IRS and the Treasury Department request comments on the clarity of the proposed rules, how they can be made easier to understand, and the administrability of the rules in the proposed regulations. All comments will be made available for public inspection and copying. A public hearing will be scheduled if requested in writing by any person that timely submits written comments. If a public hearing is scheduled, notice of the date, time and place for the public hearing will be published in the Federal Register.

Drafting Information

The principal author of these regulations is Molly K. Donnelly, Office of the Associate Chief Counsel (Procedure and Administration).

List of Subjects in 26 CFR Part 301

Employment taxes, Estate taxes, Excise taxes, Gift taxes, Income taxes, Penalties, Reporting and recordkeeping requirements.

Proposed Amendments to the Regulations

Accordingly, 26 CFR part 301 is proposed to be amended as follows:

PART 301—PROCEDURE AND ADMINISTRATION

Paragraph 1. The authority citation for part 301 continues to read in part as follows:

Authority: 26 U.S.C. 7805 * * *

Par. 2. Section 301.7216-2 is amended by revising paragraphs (n), (o), and (p) to read as follows:

§ 301.7216-2 Permissible disclosures or uses without consent of the taxpayer.

* * * * *

(n) [The text of proposed amendments to § 301.7216-2(n) is the same as the text for § 301.7216-2T(n) published elsewhere in this issue of the Federal Register].

(o) [The text of proposed amendments to § 301.7216-2(o) is the same as the text for § 301.7216-2T(o) published elsewhere in this issue of the Federal Register].

(p) [The text of proposed amendments to § 301.7216-2(p) is the same as the text for § 301.7216-2T(p) published elsewhere in this issue of the Federal Register].

* * * * *

Steven T. Miller,
Deputy Commissioner for Services and Enforcement.

[FR Doc. E9-31114 Filed 12-29-09; 4:15 pm]

BILLING CODE 4830-01-P